DEPARTMENT OF COMMERCE

International Trade Administration

[A-428-840]

Lightweight Thermal Paper From Germany: Final Results of Antidumping Duty Administrative Review; 2011-2012

AGENCY: Enforcement and Compliance, International Trade Administration, Department of Commerce.

SUMMARY: On December 16, 2013, the Department of Commerce (the Department) published the preliminary results of the administrative review of the antidumping duty order on lightweight thermal paper from Germany.¹ The period of review (POR) is November 1, 2011, through October 31, 2012. We invited interested parties to comment on the preliminary results. After reviewing the comments received and making one correction to the margin calculation program, we continue to find that Papierfabrik August Koehler SE (Koehler) did not make sales of subject merchandise at less than normal value. The final dumping margin for Koehler, listed below in the section entitled “Final Results of Review,” is unchanged from the preliminary results. In addition, we find that Papierfabrik August Koehler SE is the successor-in-interest to Papierfabrik August Koehler AG.

¹ See Lightweight Thermal Paper from Germany; Preliminary Results of Antidumping Duty Administrative Review; 2011-2012, 78 FR 78335 (December 26, 2013) (Preliminary Results).

DATES: Effective Date: June 18, 2014.

FOR FURTHER INFORMATION CONTACT: David Goldberger, AD/CVD Operations, Office II, Enforcement and Compliance, International Trade Administration, U.S. Department of Commerce, 14th Street and Constitution Avenue NW., Washington, DC 20230; telephone (202) 482-4136.

Background

Since the publication of the Preliminary Results, the following events have occurred. In February 2014, the petitioner, Appvion, Inc., and Koehler each submitted case and rebuttal briefs. On March 13, 2014, we held both a public and a closed hearing hearing at the request of the petitioner.

The Department conducted this administrative review in accordance with section 751(a)(1) of the Tariff Act of 1930, as amended (the Act).

Scope of the Order

The merchandise covered by the order is lightweight thermal paper. The merchandise subject to the order is currently classified under the following Harmonized Tariff Schedule of the United States (HTSUS) subheadings: 3703.10.60, 4811.59.20, 4811.90.8000, 4811.90.8030, 4811.90.8040, 4811.90.8050, 4811.90.9000, 4811.90.9030, 4811.90.9035, 4811.90.9050, 4811.90.9080, 4811.90.9090, 4820.10.20, and 4823.40.00. Although the HTSUS numbers are provided for convenience and customs purposes, the written product description, available in the Order, remains dispositive.²

² For a complete description of the scope, see Antidumping Duty Orders: Lightweight Thermal Paper from Germany and the People's Republic of China, 73 FR 70959 (November 24, 2008) (Order). See also Preliminary Results and accompanying Decision Memorandum for Preliminary Results of Antidumping Duty Administrative Review: Lightweight Thermal Paper from Germany (Preliminary Decision Memorandum).

Analysis of Comments Received

All issues raised in the case and rebuttal briefs by parties are addressed in the memorandum entitled, “Issues and Decision Memorandum for the Final Results of the 2011-2012 Administrative Review on Lightweight Thermal Paper from Germany” (Issues and Decision Memo), which is dated concurrently with, and adopted by, this notice. A list of the issues which parties raised and to which we respond in the Issues and Decision Memo is attached to this notice as Appendix I. The Issues and Decision Memo is a public document and is on file electronically via Enforcement and Compliance's Antidumping and Countervailing Duty Centralized Electronic Service System (IA ACCESS). IA ACCESS is available to registered users at http://iaaccess.trade.gov and is available to all parties in the Central Records Unit (CRU), room 7046 of the main Department of Commerce building. In addition, a complete version of the Issues and Decision Memo can be accessed directly on the Internet at http://enforcement.trade.gov/frn/. The signed Issues and Decision Memo and the electronic version of the Issues and Decision Memo are identical in content.

Final Results of the Review

As a result of this review, we determine that the following weighted-average dumping margin exists for the period November 1, 2011, through October 31, 2012.

Manufacturer/exporter | Percent margin
Papierfabrik August Koehler SE | 0.00

Disclosure

We intend to disclose the calculations performed within five days of the date of publication of this notice to parties in this proceeding in accordance with 19 CFR 351.224(b).

Assessment Rates

The Department will determine, and U.S. Customs and Border Protection (CBP) shall assess, antidumping duties on all appropriate entries, in accordance with 19 CFR 351.212(b). The Department intends to issue appropriate assessment instructions directly to CBP 15 days after publication of these final results of review. Because we have calculated a zero margin for Koehler in the final results of this review, we will instruct CBP to liquidate the appropriate entries without regard to antidumping duties.

The Department clarified its “automatic assessment” regulation on May 6, 2003. See Antidumping and Countervailing Duty Proceedings: Assessment of Antidumping Duties, 68 FR 23954 (May 6, 2003) (Assessment Policy Notice). This clarification applies to entries of subject merchandise during the POR produced by Koehler for which it did not know that the merchandise was destined for the United States. In such instances, we will instruct CBP to liquidate unreviewed entries at the all-others rate effective during the POR if there is no rate for the intermediate company(ies) involved in the transaction. See Assessment Policy Notice for a full discussion of this clarification.

Cash Deposit Requirements

The following cash deposit requirements will be effective for all shipments of lightweight thermal paper from Germany entered, or withdrawn from warehouse, for consumption on or after the publication date of the final results of this administrative review, as provided by section 751(a)(2)(C) of the Act: (1) For Koehler, the calculated weighted-average margin rate is 0.00 percent and, accordingly, no cash deposit will be required; (2) for previously reviewed or investigated companies not participating in this review, the cash deposit rate will continue to be the company-specific rate published for the most recent period; (3) if the exporter is not a firm covered in this review, a previous review, or the original less-than-fair-value investigation, but the manufacturer is, the cash deposit rate will be the rate established for the most recent period for the manufacturer of the merchandise; and (4) the cash deposit rate for all other manufacturers or exporters will continue to be 6.50 percent, the all-others rate established in the investigation.³ These deposit requirements, when imposed, shall remain in effect until further notice.

³ See Order.

Notification to Importers

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

Notification Regarding Administrative Protective Orders

This notice serves as the only reminder to parties subject to administrative protective order (APO) of their responsibility concerning the disposition of proprietary information disclosed under APO in accordance with 19 CFR 351.305(a)(3). Timely written notification of return or destruction of APO materials or conversion to judicial protective order is hereby requested. Failure to comply with the regulations and the terms of an APO is a sanctionable violation.

This administrative review and notice are published in accordance with sections 751(a)(1) and 777(i)(1) of the Act and 19 CFR 351.221.

Dated: June 11, 2014.
Ronald K. Lorentzen,
Acting Assistant Secretary for Enforcement and Compliance.

Appendix I

List of Topics Discussed in the Issues and Decision Memo

1. Exclusion of Certain Sales from Normal Value (NV) Calculations

2. Application of Adverse Facts Available (AFA) to Unreported U.S. Sales Quantity

3. Recalculation of Indirect Selling Expenses Incurred in the United States

4. Differential Pricing and Application of Average-to-Transaction Methodology

5. Ministerial Errors in Margin Calculation Program

[FR Doc. 2014-14243 Filed 6-17-14; 8:45 am]

BILLING CODE 3510-DS-P